Proclamation 10569 of April 28, 2023

Loyalty Day, 2023

By the President of the United States of America

A Proclamation

America was founded on the sacred proposition that we are all created equal; entitled to be treated with dignity and respect; and deserving of equal access to justice, opportunity, and freedom. On Loyalty Day, we rededicate ourselves to delivering that promise of America to all Americans.

We are a Nation that has sought to encourage and inspire loyalty through our actions. We do that by honoring the Constitution, upholding the rule of law, and respecting free and fair elections. As Americans, we are called to unequivocally condemn political violence and hate-motivated attacks; they have no place in our democracy. We must open the doors of opportunity even wider to others because the promise of this country is big enough for everyone to succeed. And we must stand up for truth and resist lies and disinformation that would tear us apart.

Our democracy has endured for generations because Americans have stood together to defend it. That includes brave service members, veterans, and their families, selfless first responders who protect our communities, and hardworking people of all backgrounds who build our Nation and power our prosperity.

“We, the People,” are the heirs of a big, complicated country unlike any other in the world. Whoever we are and whatever our job, we all have a part to play in sustaining and advancing this great American experiment by being informed citizens, engaged community members, respectful neighbors, and thoughtful patriots.

Today, we remember that America is a covenant requiring constant care and commitment. Let us agree that upholding democracy must never be a partisan issue but rather an American issue. And let us keep the flame of liberty burning in our time as it did for past generations of Americans—through the fight for our independence; the Civil War; the Great Depression; two World Wars; the Civil Rights Movement; and all the sustained struggles of citizens to make America more prosperous, just, and free.

To celebrate our shared American spirit and the sacrifices so many of our fellow citizens have made, the Congress, by Public Law 85-529, as amended, has designated the first day of May each year as Loyalty Day. On this day, let us reaffirm our commitment to the values that bind us together and honor all those who have defended our freedom and ideals.

NOW, THEREFORE, I, JOSEPH R. BIDEN JR., President of the United States of America, do hereby proclaim May 1, 2023, as Loyalty Day. This Loyalty Day, I call upon the people of the United States to join in this national observance, display the American Flag, and pledge allegiance to our Republic for which it stands.

IN WITNESS WHEREOF, I have hereunto set my hand this twenty-eighth day of April, in the year of our Lord two thousand twenty-three, and of the Independence of the United States of America the two hundred and forty-seventh.

[FR Doc. 2023-09541

Filed 5-2-23; 8:45 am]

Billing code 3395-F3-P